DEPARTMENT OF HEALTH AND HUMAN SERVICES

Health Resources and Services Administration

Agency Information Collection Activities: Submission to OMB for Review and Approval; Public Comment Request; Small Rural Hospital Transitions Project

AGENCY: Health Resources and Services Administration (HRSA), Department of Health and Human Services

ACTION: Notice.

SUMMARY: In compliance with Section 3507(a)(1)(D) of the Paperwork Reduction Act of 1995, HRSA submitted an Information Collection Request (ICR) to the Office of Management and Budget (OMB) for review and approval. Comments submitted during the first public review of this ICR will be provided to OMB. OMB will accept further comments from the public during the review and approval period.

DATES: Comments on this ICR should be received no later than October 11, 2016.

ADDRESSES: Submit your comments, including the ICR Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Small Rural Hospital Transitions Project OMB No. 0906-xxxx—NEW

Abstract: Under Section 330A of the Public Health Service Act (42 U.S.C. 254c(e)), the Federal Office of Rural Health Policy (FORHP) funds grant programs supporting expanding access to, and improving the quality of essential health care services in rural and frontier communities. Small rural hospitals are facing many challenges in the new health care environment, including the concurrent need to better measure and account for quality of care in all settings; improving transitions of care as patients move from one care setting to another; adopting new payment approaches such as value-based purchasing; and tailoring operations to the new approaches to care delivery, such as accountable care organizations (ACO) and patient-centered medical homes. Success in this new environment will require bridging the gaps between the current system and the newly emerging system of healthcare delivery and payment. Because little is known about how these new models might impact rural communities, there is a need to help hospitals understand and consider those factors that would make them logical participants in health care systems that focus on value. The Small Rural Hospital Transitions (SRHT) Project will assist small rural hospitals in making the transition. The purpose of the project is to provide on-site technical assistance to nine small rural hospitals located in persistent poverty counties. Technical assistance will be provided in the areas of: (1) Financial assessments, (2) creating a quality-focused environment, (3) aligning services to community need, and, (4) to the extent that financial and quality core areas have been stabilized, assistance to help the hospitals consider factors that would make them logical participants in health care systems that focus on value (for example ACOs, shared savings programs, primary care medical homes).

Need and Proposed Use of the Information: The information will be solicited in the form of the SRHT Project Technical Assistance Online Application form and the supporting hospital assessment, Performance Excellence for Rural Hospitals. All small rural hospitals desiring to apply for onsite technical assistance through SRHT will be required to complete the application and the survey. The applicant's information will be scored and ranked to aid in the selection of nine small rural hospitals to receive on-site technical assistance. Both the application form and the hospital assessment are designed to ensure the selection of hospital applicants consistent with established eligibility criteria and hospitals readiness or ability to implement consultant's recommendations.

A 60-day Federal Register Notice was published in the Federal Register on June 24, 2016 (81 FR 41315). There were no public comments.

Likely Respondents: Small rural hospitals located in a rural community, as defined by FORHP, persistent poverty county, or a rural census tract of a metro persistent poverty county; have 49 staffed beds or less as reported on the hospital's most recently filed Medicare Cost Report. Hospitals; and for-profit or not-for-profit.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
SRHT Project Technical Assistance Online Application | 30 | 38 | 1140 | .50 | 570
Assessment: Performance Excellence for Rural Hospitals | 30 | 29 | 870 | .25 | 217.5
Total | * 30 |  | 2010 |  | 787.5
* The same individuals complete the SRHT Online Application and the Assessment for a total of 30 respondents.

Jason E. Bennett,
Director, Division of the Executive Secretariat.

[FR Doc. 2016-21733 Filed 9-8-16; 8:45 am]

BILLING CODE 4165-15-P